INTERNATIONAL TRADE COMMISSION

[Investigation No. 337-TA-774]

In the Matter of Certain Electronic Devices Having a Digital Television Receiver and Components Thereof; Notice of a Commission Determination Not To Review an Initial Determination Terminating the Investigation; Termination of the Investigation

AGENCY: U.S. International Trade Commission.

ACTION: Notice.

SUMMARY: Notice is hereby given that the U.S. International Trade Commission has determined not to review an initial determination (“ID”) (Order No. 5) of the presiding administrative law judge (“ALJ”) terminating the above-captioned investigation based on a settlement agreement.

FOR FURTHER INFORMATION CONTACT: Clint Gerdine, Esq., Office of the General Counsel, U.S. International Trade Commission, 500 E Street, SW., Washington, DC 20436, telephone (202) 708-2310. Copies of non-confidential documents filed in connection with this investigation are or will be available for inspection during official business hours (8:45 a.m. to 5:15 p.m.) in the Office of the Secretary, U.S. International Trade Commission, 500 E Street, SW., Washington, DC 20436, telephone (202) 205-2000. General information concerning the Commission may also be obtained by accessing its Internet server at http://www.usitc.gov. The public record for this investigation may be viewed on the Commission's electronic docket (EDIS) at http://edis.usitc.gov. Hearing-impaired persons are advised that information on this matter can be obtained by contacting the Commission's TDD terminal on (202) 205-1810.

SUPPLEMENTARY INFORMATION: The Commission instituted this investigation on June 6, 2011, based on a complaint filed by Zenith Electronics LLC of Lincolnshire, Illinois. 76 FR. 32373-74. The complaint alleges violations of section 337 of the Tariff Act of 1930, as amended, 19 U.S.C. 1337, in the importation into the United States, the sale for importation, and the sale within the United States after importation of certain electronic devices having a digital television receiver and components thereof by reason of infringement of certain claims of U.S. Patent Nos. 5,598,220; 5,629,958; and 5,636,251. The complaint further alleges the existence of a domestic industry. The Commission's notice of investigation named the following respondents: Sony Corporation of Japan; Sony Corporation of America of New York, New York; and Sony Electronics, Inc. of San Diego, California.

On August 10, 2011, complainant and respondents jointly moved to terminate the investigation on the basis of a settlement agreement. The Office of Unfair Import Investigations did not participate in this investigation.

The ALJ issued the subject ID on August 11, 2011, granting the motion for termination. He found that the motion for termination satisfies Commission rule 210.21(b). He further found, pursuant to Commission rule 210.50(b)(2), that termination of this investigation by settlement agreement is in the public interest. No party petitioned for review of the ID. The Commission has determined not to review the ID, and the investigation is terminated.

The authority for the Commission's determination is contained in section 337 of the Tariff Act of 1930, as amended, 19 U.S.C. 1337, and in sections 210.21 and 210.42(h) of the Commission's Rules of Practice and Procedure, 19 CFR 210.21, 210.42(h).

By order of the Commission.
Issued: August 26, 2011.
James R. Holbein,
Secretary to the Commission.

[FR Doc. 2011-22359 Filed 8-31-11; 8:45 am]

BILLING CODE 7020-02-P